DEPARTMENT OF ENERGY

Federal Energy Regulatory Commission

Combined Notice of Filings #1

Take notice that the Commission received the following electric corporate filings:

Docket Numbers: EC17-126-000.

Applicants: South Central MCN LLC.

Description: Application of South Central MCN LLC for Authorization to Acquire Transmission Facilities Pursuant to Section 203 of the Federal Power Act, et al.

Filed Date: 6/1/17.

Accession Number: 20170601-5324.

Comments Due: 5 p.m. ET 6/22/17.

Take notice that the Commission received the following exempt wholesale generator filings:

Docket Numbers: EG17-113-000.

Applicants: Algonquin Power Sanger LLC.

Description: Algonquin Power Sanger LLC Notice of Self-Certification of Exempt Wholesale Generator Status.

Filed Date: 5/31/17.

Accession Number: 20170531-5377.

Comments Due: 5 p.m. ET 6/21/17.

Docket Numbers: EG17-114-000.

Applicants: Hattiesburg Farm, LLC.

Description: Self-Certification of Exempt Wholesale Generator Status of Hattiesburg Farm, LLC.

Filed Date: 5/31/17.

Accession Number: 20170531-5378.

Comments Due: 5 p.m. ET 6/21/17.

Take notice that the Commission received the following electric rate filings:

Docket Numbers: ER14-1736-003.

Applicants: Midcontinent Independent System Operator, Inc.

Description: Compliance filing: 2017-06-01_Compliance filing to implement Cost Recovery Mechanism Settlement to be effective 1/29/2014.

Filed Date: 6/1/17.

Accession Number: 20170601-5249.

Comments Due: 5 p.m. ET 6/22/17.

Docket Numbers: ER17-1347-001.

Applicants: PacifiCorp.

Description: Compliance filing: OATT Revised Attachment H-1 (Rev Depreciation Rates 2017) Compliance to be effective 6/1/2017.

Filed Date: 5/31/17.

Accession Number: 20170531-5319.

Comments Due: 5 p.m. ET 6/21/17.

Docket Numbers: ER17-1433-001.

Applicants: PJM Interconnection, L.L.C.

Description: Compliance filing: Amendment to Compliance Filing in Docket No. ER17-1433-000 to be effective 1/19/2017.

Filed Date: 6/2/17.

Accession Number: 20170602-5042.

Comments Due: 5 p.m. ET 6/23/17.

Docket Numbers: ER17-1739-000.

Applicants: Pennsylvania Windfarms, LLC.

Description: Tariff Cancellation: Pennsylvania Windfarms, LLC Notice of Cancellation of Market-Based Rate Tariff to be effective 6/2/2017.

Filed Date: 6/1/17.

Accession Number: 20170601-5250.

Comments Due: 5 p.m. ET 6/22/17.

Docket Numbers: ER17-1740-000.

Applicants: Pennsylvania Windfarms, LLC.

Description: Tariff Cancellation: Pennsylvania Windfarms, LLC Notice of Cancellation of CFA to be effective 6/2/2017.

Filed Date: 6/1/17.

Accession Number: 20170601-5251.

Comments Due: 5 p.m. ET 6/22/17.

Docket Numbers: ER17-1741-000.

Applicants: Southwest Power Pool, Inc.

Description: § 205(d) Rate Filing: Central Nebraska Public Power and Irrigation District Stated Rate Revisions to be effective 12/31/9998.

Filed Date: 6/1/17.

Accession Number: 20170601-5252.

Comments Due: 5 p.m. ET 6/22/17.

Docket Numbers: ER17-1742-000.

Applicants: Hattiesburg Farm, LLC.

Description: Baseline eTariff Filing: Market-Based Rate Tariff to be effective 6/6/2017.

Filed Date: 6/1/17.

Accession Number: 20170601-5273.

Comments Due: 5 p.m. ET 6/22/17.

Docket Numbers: ER17-1743-000.

Applicants: Doswell Limited Partnership.

Description: § 205(d) Rate Filing: Reactive Power Tariff Filing to be effective 7/1/2017.

Filed Date: 6/1/17.

Accession Number: 20170601-5281.

Comments Due: 5 p.m. ET 6/22/17.

Docket Numbers: ER17-1744-000.

Applicants: New England Power Pool Participants Committee.

Description: § 205(d) Rate Filing: June 2017 Membership Filing to be effective 5/1/2017.

Filed Date: 6/1/17.

Accession Number: 20170601-5288.

Comments Due: 5 p.m. ET 6/22/17.

Docket Numbers: ER17-1745-000.

Applicants: Public Service Company of New Mexico.

Description: Initial rate filing: Executed Transmission Agreement between PNM and Avangrid Renewables, LLC to be effective 6/1/2017.

Filed Date: 6/2/17.

Accession Number: 20170602-5048.

Comments Due: 5 p.m. ET 6/23/17.

Docket Numbers: ER17-1746-000.

Applicants: Cork Oak Solar LLC, Sunflower Solar LLC.

Description: Baseline eTariff Filing: Market Based Rate Tariff for Sunflower and Cork Oak to be effective 6/2/2017.

Filed Date: 6/2/17.

Accession Number: 20170602-5061.

Comments Due: 5 p.m. ET 6/23/17.

Docket Numbers: ER17-1747-000.

Applicants: PJM Interconnection, L.L.C.

Description: § 205(d) Rate Filing: First Revised Service Agreement No. 4661; Queue AA2-115/AB2-112 (ISA) to be effective 5/3/2017.

Filed Date: 6/2/17.

Accession Number: 20170602-5076.

Comments Due: 5 p.m. ET 6/23/17.

Docket Numbers: ER17-1748-000.

Applicants: Arizona Public Service Company.

Description: § 205(d) Rate Filing: Rate Schedule Nos. 244, 252, and 288—Morgan Integration to be effective 8/1/2017.

Filed Date: 6/2/17.

Accession Number: 20170602-5078.

Comments Due: 5 p.m. ET 6/23/17.

Docket Numbers: ER17-1749-000.

Applicants: Nevada Power Company.

Description: § 205(d) Rate Filing: Rate Schedule No. 95 Amended & Restated Navajo Project Co-Tenancy Agr. to be effective 8/2/2017.

Filed Date: 6/2/17.

Accession Number: 20170602-5111.

Comments Due: 5 p.m. ET 6/23/17.

Docket Numbers: ER17-1750-000.

Applicants: Pacific Gas and Electric Company.

Description: § 205(d) Rate Filing: Silicon Valley Power Replacement IA and TFAs (SA 343) to be effective 8/1/2017.

Filed Date: 6/1/17.

Accession Number: 20170601-5330.

Comments Due: 5 p.m. ET 6/22/17.

Docket Numbers: ER17-1751-000.

Applicants: Veritas Energy Group, LLC.

Description: Baseline eTariff Filing: Market-Based Rate Tariff Application to be effective 8/2/2017.

Filed Date: 6/2/17.

Accession Number: 20170602-5115.

Comments Due: 5 p.m. ET 6/23/17.

Docket Numbers: ER17-1752-000.

Applicants: Pacific Gas and Electric Company.

Description: § 205(d) Rate Filing: Silicon Valley Power Redesignation of Grizzly Agreement (RS 248) to be effective 8/1/2017.

Filed Date: 6/1/17.

Accession Number: 20170601-5331.

Comments Due: 5 p.m. ET 6/22/17.

Docket Numbers: ER17-1753-000.

Applicants: Midcontinent Independent System Operator, Inc.

Description: § 205(d) Rate Filing: 2017-06-02_Tariff Amendments to Revise TSR Redispatch Provisions to be effective 8/2/2017.

Filed Date: 6/2/17.

Accession Number: 20170602-5121.

Comments Due: 5 p.m. ET 6/23/17.

Take notice that the Commission received the following public utility holding company filings:

Docket Numbers: PH17-16-000.

Applicants: New Jersey Resources Corporation.

Description: New Jersey Resources Corporation submits FERC 65-A Material Change in Facts of Exemption Notification.

Filed Date: 6/2/17.

Accession Number: 20170602-5052.

Comments Due: 5 p.m. ET 6/23/17.

Take notice that the Commission received the following qualifying facility filings:

Docket Numbers: QF17-1054-000.

Applicants: Farmingdale Fuel Cell, LLC.

Description: Form 556 of Farmingdale Fuel Cell, LLC.

Filed Date: 6/1/17.

Accession Number: 20170601-5214.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 2, 2017.
Kimberly D. Bose,
Secretary.

[FR Doc. 2017-11918 Filed 6-7-17; 8:45 am]

BILLING CODE 6717-01-P